FEDERAL ELECTION COMMISSION

Sunshine Act Meetings

AGENCY: Federal Election Commission.

Previously announced date & time: Thursday, February 17, 2000, 10 a.m., meeting open to the public.

The following item was added to the agenda: February Status Report to Congress on PricewaterhouseCoopers Recommendations.

DATE AND TIME: Tuesday, February 29, 2000 at 10 a.m.

PLACE: 999 E Street, N.W., Washington, D.C.

STATUS: This meeting will be closed to the public.

ITEMS TO BE DISCUSSED:

Compliance matters pursuant to 2 U.S.C. 437g.

Audits conducted pursuant to 2 U.S.C. 437g, 438(b), and Title 26, U.S.C.

Matters concerning participation in civil actions or proceedings or arbitration.

Internal personnel rules and procedures or matters affecting a particular employee.

DATE AND TIME: Wednesday, March 1, 2000 at 10 a.m.

PLACE: 999 E Street, N.W., Washington, D.C. (Ninth Floor).

STATUS: This hearing will be open to the public.

MATTER BEFORE THE COMMISSION: Oral Hearing: Buchanan for President, Inc.

DATE AND TIME: Thursday, March 2, 2000 at 10 a.m.

PLACE: 999 E Street, N.W., Washington, D.C. (Ninth Floor)

STATUS: This meeting will be open to the public.

ITEMS TO BE DISCUSSED:

Correction and Approval of Minutes.

Advisory Opinion 1999-40: National Rual Electric Cooperative Association by counsel, Jan Witold Baran.

Advisory Opinion 2000-01: Angel Taveras, Congressional candidate.

Advisory Opinion 2000-03: American Society of Anesthesiologists by counsel, Michael Scott.

Administrative Matters.

PERSON TO CONTACT FOR INFORMATION: Mr. Ron Harris, Press Officer, Telephone: (202) 694-1220.

Mary W. Dove,
Acting Secretary of the Commission.

[FR Doc. 00-4526 Filed 2-22-00; 3:20 pm]

BILLING CODE 6715-01-M